ENVIRONMENTAL PROTECTION AGENCY

[FRL-7793-3]

Draft Total Maximum Daily Load (TMDL) for the Mahoning River Watershed, Ohio

AGENCY: Environmental Protection Agency (EPA).

ACTION: Notice and request for comments.

SUMMARY: This notice announces the availability of the EPA document identifying segments and associated E. coli/fecal coliform pollutants in the Mahoning River, in Portage, Trumbull, and Mahoning Counties in Ohio, and requests public comment.

The TMDL was developed to attain water quality standards and designated uses (primary contact standard, recreational use) established for the Mahoning River, which is on the Ohio 2004 303(d) list. Segments and pollutants were listed and prioritized by the State for TMDL assessment, and recreational use and E.coli/fecal coliform impairments were identified. TMDLs specify the maximum amount of a pollutant a waterbody can assimilate and still meet water quality standards. Based upon that maximum amount, TMDLs allocate pollutant loads to sources and allocate a margin of safety (MOS). In this way, the TMDL process links the development and implementation of control actions to the attainment and maintenance of water quality standards and designated uses. This TMDL was developed by EPA, Region 5, at the request of the State of Ohio. EPA is providing the public the opportunity to review its document in accordance with section 303(d) of the Clean Water Act (CWA), 33 U.S.C. 1313(d), and 40 CFR 130.7. EPA will consider public comments in its final document.

DATES: Comments on this document must be received in writing by August 28, 2004.

ADDRESSES: Hard copies are available at: Public Library of Youngstown and Mahoning County, Main Library, 305 Wick Avenue, Youngstown, OH 44503-1079; Youngstown State University, William F. Maag Library, One University Plaza, Youngstown, OH 44555-3675.

Written comments may be submitted to: Jean Chruscicki (WW-16J), U.S. Environmental Protection Agency, 77 West Jackson Boulevard, Chicago, Illinois 60604-3590.

The website to access this document is http://www.epa.gov/region5/water/notices.html. As an alternative, EPA will accept comments electronically. Comments should be sent to the following Internet e-mail address: chruscicki.jean@epa.gov.

FOR FURTHER INFORMATION CONTACT: Jean Chruscicki,Watersheds and Wetlands Branch, at the EPA address noted above or by telephone at (312) 353-1435.

SUPPLEMENTARY INFORMATION: Section 303(d) of the CWA requires that each state identify those waters for which existing technology-based pollution controls are not stringent enough to attain or maintain state water quality standards. For those waters, states are required to establish TMDLs according to a priority ranking.

Dated: July 19, 2004.
Anthony Carrollo,
Acting Director, Water Division, Region 5.

[FR Doc. 04-17379 Filed 7-29-04; 8:45 am]

BILLING CODE 6560-50-P